DEPARTMENT OF HEALTH AND HUMAN SERVICES

Centers for Disease Control and Prevention

Solicitation of Nominations for Appointment as Members of the Community Preventive Services Task Force (CPSTF)

AGENCY: Centers for Disease Control and Prevention (CDC), Department of Health and Human Services (HHS).

ACTION: Notice.

SUMMARY: The Centers for Disease Control and Prevention (CDC), within the Department of Health and Human Services (HHS), is soliciting nominations for appointment of individuals qualified to serve as new members of the Community Preventive Services Task Force (CPSTF). New CPSTF members will serve a five-year term starting in either 2023 or 2024. For efficiency and to reduce the burden on the public, CDC is soliciting nominations to fill vacancies on the CPSTF anticipated for both calendar years 2023 and 2024.

DATES: Nomination packages must be received on or before 5:00 p.m. EDT, on June 24, 2022. Late nomination packages will not be considered.

ADDRESSES: Nomination packages should be submitted by either of the methods listed below:

• Electronically by emailing to CPSTF@cdc.gov; or

• U.S. mail to The Community Guide Office, Office of the Associate Director for Policy and Strategy, Centers for Disease Control and Prevention, 1600 Clifton Road NE, MS H21-10, Atlanta, GA 30329. Attn: CPTSTF Nominations.

FOR FURTHER INFORMATION CONTACT: Julie Racine-Parshall, Community Guide Office, Office of the Associate Director for Policy and Strategy, Centers for Disease Control and Prevention, 1600 Clifton Road NE, MS H21-10, Atlanta, Georgia, 30329. Telephone (770) 488-0732; Email: CPSTF@cdc.gov.

SUPPLEMENTARY INFORMATION: The submission process, qualification requirements, selection process, and the time commitment of CPSTF members are described below.

Submission of Nomination Packages

Nomination packages should include:

(1) The nominee's current curriculum vitae;

(2) A brief biographic sketch (less than 200 words) of the nominee;

(3) The nominee's contact information, including mailing address, email address, and telephone number; and

(4) A brief explanation of how the nominee meets the qualification requirements and would contribute to the CPSTF. The information provided should also attest to the nominee's willingness to serve as a member of the CPSTF and identify which year the nominee would be available to start (i.e., calendar year 2023, 2024, or either year).

After an initial review, CDC will ask persons under serious consideration for CPSTF membership to provide detailed information that will permit evaluation of possible significant conflicts of interest.

To obtain diverse perspectives, CDC encourages nominations of persons of all races, genders, ages, and persons with disabilities. Interested individuals may self-nominate. Organizations and individuals may nominate one or more persons qualified for membership on the CPSTF. Federal employees are not eligible to be CPSTF members. Individuals nominated prior to this nomination period, who continue to have interest in serving on the CPSTF, may be re-nominated; a new nomination package must be submitted in accordance with the requirements in this notice.

Qualification Requirements

To qualify as a member of the CPSTF and support its mission, a nominee must, at a minimum, demonstrate knowledge, experience, and national leadership in the following areas:

• The critical evaluation of research or policy, or in the methods of evidence review; and

• Research, evaluation, or implementation of community or health system-based programs, policies, or services to improve population health.

Strongest consideration will be given to individuals with expertise and experience:

• That are applied, with practical applications for public health or informing policy action;

• That address broad public health considerations, or extends beyond one or two highly defined areas;

• In state or local health departments; and

• In one or more of the following areas: Social determinants of health or health equity, preventive medicine, public health preparedness and response, injury or violence prevention, public health policy interventions, or state-of-the art systematic review methods.

Nominators should highlight the relevant information in the nomination materials for candidates with experience and expertise in any of these areas.

All nominated individuals will be considered for CPSTF membership.

Applicants must have no substantial conflicts of interest, whether financial, professional, or intellectual, that would impair the scientific integrity of the work of the CPSTF and must be willing to complete regular conflict of interest disclosures.

Applicants must have the ability to work collaboratively with a diverse team of professionals who support the mission of the CPSTF. Applicants must have adequate time to contribute substantively to the work products of the CPSTF.

Nominee Selection

Appointments to the CPSTF will be made based on qualifications as outlined above (see Qualification Requirements) and the current expertise needs of the CPSTF.

Background of the CPSTF

The CPSTF was established in 1996 by HHS to identify population health interventions that are scientifically proven to save lives, increase lifespans, and improve quality of life. The CPSTF produces recommendations and identifies evidence gaps to help inform the decision making of federal, state, and local health departments, other government agencies, communities, healthcare providers and organizations, employers, schools, and research organizations.

The CPSTF (www.thecommunityguide.org/task-force/about-community-preventive-services-task-force), is an independent, non-federal, unpaid panel of public health and prevention experts that is statutorily mandated to provide evidence-based findings and recommendations about community preventive services, programs, and policies to improve health (Public Health Service Act § 399U(a), 42 U.S.C. 280g-10(a)). Its members represent a broad range of research, practice, and policy expertise in community preventive services, public health, health promotion, and disease prevention. The CPSTF members are appointed by the CDC Director and serve five-year terms, with extensions possible in order to maintain a full scope of expertise, complete specific work, and ensure consistency of CPSTF methods and recommendations. CDC provides “ongoing administrative, research, and technical support for the operations of the CPSTF” as directed by the Public Health Service Act § 399U(c),42 U.S.C. 280g-10(c)).

The CPSTF bases its recommendations on rigorous, replicable systematic reviews of the scientific literature, which:

• Evaluate the strength and limitations of published scientific studies about community-based health promotion and disease prevention programs, services, and policies;

• Assess whether the programs, services, and policies are effective in promoting health and preventing disease, injury, and disability;

• Examine the applicability of these programs, services, and policies to varied populations and settings; and

• Conduct economic analyses of recommended interventions when applicable.

These systematic reviews are conducted, with CPSTF oversight, by scientists and subject matter experts from the CDC in collaboration with a wide range of government, academic, policy, and practice-based partners. CPSTF systematic review methods are described at https://www.thecommunityguide.org/methods-manual. CPSTF findings and recommendations and the systematic reviews on which they are based are available at https://www.thecommunityguide.org/task-force-findings.

Time Commitment

The CPSTF generally conducts three, two-day meetings per year. Two of those meetings are open to the public and one is a closed session business meeting. The public meetings are held in-person, via video conference, or a combination of those two formats. In addition, a significant portion of the CPSTF's work occurs between meetings during video conferences and via email discussions. Member duties include overseeing the process of prioritizing CPSTF work, participating in the development and refinement of systematic review methods, serving as members of individual review teams, and issuing recommendations and findings to help inform the decision-making process about policy, practice, research, and research funding in a wide range of U.S. settings. Members help raise awareness about CPSTF findings and recommendations and the resources available through the website. The estimated workload for CPSTF members is approximately 170 hours a year in addition to the three two-day meetings. The members are all volunteers and do not receive any compensation beyond support for travel to in-person meetings when they occur.

Dated: April 27, 2022.
Angela K. Oliver,
Executive Secretary, Centers for Disease Control and Prevention.

[FR Doc. 2022-09368 Filed 4-29-22; 8:45 am]

BILLING CODE 4163-18-P